DEPARTMENT OF THE INTERIOR

Fish and Wildlife Service

50 CFR Part 17

[Docket No. FWS-R4-ES-2020-0109; FF09E22000 FXES11130900000 201]

RIN 1018-BC98

Endangered and Threatened Wildlife and Plants; 6-Month Extension of Final Determination on the Proposed Removal of the Ivory-Billed Woodpecker From the List of Endangered and Threatened Wildlife

AGENCY: Fish and Wildlife Service, Interior.

ACTION: Proposed rule; reopening of the comment period.

SUMMARY: We, the U.S. Fish and Wildlife Service (Service), announce a 6-month extension of the final determination on whether to remove the ivory-billed woodpecker (Campephilus principalis), a bird species historically found in the American southeast, from the List of Endangered and Threatened Wildlife (List). We are also reopening the comment period on the proposed rule to remove this species from the List for an additional 30 days. Comments previously submitted need not be resubmitted and will be fully considered in preparation of the final determination. We are taking this action to extend the final determination based on substantial disagreement regarding the status of the ivory-billed woodpecker.

DATES: The comment period on the proposed rule that published September 30, 2021 (86 FR 54298), is reopened. We will accept comments received or postmarked on or before August 8, 2022. If you comment using the Federal eRulemaking Portal (see ADDRESSES, below), you must submit your comments by 11:59 p.m. Eastern Time on the closing date.

ADDRESSES: You may submit comments on the proposed rule by one of the following methods:

(1) Electronically: Go to the Federal eRulemaking Portal: https://www.regulations.gov. In the Search box, enter FWS-R4-ES-2020-0109, which is the docket number for the rulemaking. Then, click on the Search button. On the resulting page, in the panel on the left side of the screen, under the Document Type heading, check the Proposed Rule box to locate this document. You may submit a comment by clicking on “Comment.”

(2) By hard copy: Submit by U.S. mail to: Public Comments Processing, Attn: FWS-R4-ES-2020-0109; U.S. Fish and Wildlife Service, MS: PRB/3W, 5275 Leesburg Pike, Falls Church, VA 22041-3803.

We request that you send comments only by the methods described above. We will post all comments on https://www.regulations.gov. This generally means that we will post any personal information you provide us (see Information Requested, below, for more information).

FOR FURTHER INFORMATION CONTACT: Brigette Firmin, Acting Field Supervisor, Louisiana Field Office, 200 Dulles Dr., Lafayette, LA 70506; on the internet at https://www.fws.gov/office/louisiana-ecological-services; by telephone at 337-291-3108. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Previous Federal Actions

On September 30, 2021, we published a proposed rule (86 FR 54298) to remove 23 species, including the ivory-billed woodpecker, from the List of Endangered and Threatened Wildlife (List) due to extinction. The proposed rule had a 60-day comment period, ending November 29, 2021. On January 11, 2022, we reopened the comment period for 30 days (87 FR 1390) in order to hold a public hearing on the proposed rule to remove the ivory-billed woodpecker from the List (i.e., to “delist” the species) and to allow all interested parties additional time to comment on the proposed rule to delist the ivory-billed woodpecker. We held the public hearing on January 26, 2022. For a description of other previous Federal actions concerning the ivory-billed woodpecker, please refer to the September 30, 2021, proposed rule (86 FR 54298).

This Action

Section 4(b)(6) of the Endangered Species Act of 1973, as amended (Act; 16 U.S.C. 1531 et seq.), and its implementing regulations at 50 CFR 424.17(a) require that we take one of three actions within 1 year of publication of a proposed rule to determine whether a species is an endangered or threatened species: (1) Finalize the proposed rule; (2) make a finding that such revision should not be made and withdraw the proposed rule; or (3) extend the final determination by not more than 6 months, if there is substantial disagreement among scientists knowledgeable about the species regarding the sufficiency or accuracy of the available data relevant to the determination.

Since the publication of the proposed rule to delist the ivory-billed woodpecker, there has been substantial disagreement regarding the interpretation of the evidence that exists for the ivory-billed woodpecker. This situation has led to a significant disagreement regarding whether the species is extinct. Therefore, in consideration of the disagreements among experts surrounding the ivory-billed woodpecker's status, we are extending the final determination on the proposal to delist the species for 6 months in order to solicit additional information that will help to clarify these issues.

Information Requested

We will accept written comments and information during this reopened comment period on our proposed delisting rule for ivory-billed woodpecker (86 FR 54298; September 30, 2021). We will consider information and recommendations from all interested parties. We intend that any final action resulting from the proposal be as accurate as possible and based on the best available scientific and commercial data.

Due to the scientific disagreements described above, we are particularly interested in new information and evidence regarding the status of the ivory-billed woodpecker that has not previously been provided. We particularly seek clear video or photographic evidence of the presence of the ivory-billed woodpecker that can be repeatedly interpreted the same way by independent observers, such as definitive photographic evidence collected by a field observer (Ivory-billed Woodpecker Final Recovery Plan, Service 2010, pp. 99-110).

If you previously submitted comments or information on the September 30, 2021, proposed rule (86 FR 54298), please do not resubmit them. We have incorporated previously submitted comments into the public record, and we will fully consider them in the preparation of our final determination. Our final determination concerning the proposed delisting of the ivory-billed woodpecker will take into consideration all written comments and any additional information we receive.

You may submit your comments and materials concerning the proposed rule by one of the methods listed in ADDRESSES. We request that you send comments only by the methods described in ADDRESSES.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the proposed rule, will be available for public inspection on https://www.regulations.gov, or by appointment, during normal business hours, at the U.S. Fish and Wildlife Service, Louisiana Ecological Services Field Office (see FOR FURTHER INFORMATION CONTACT). You may obtain copies of the proposed rule on the internet at https://www.regulations.gov at Docket No. FWS-R4-ES-2020-0109, or by mail from the U.S. Fish and Wildlife Service, Louisiana Ecological Services Field Office (see FOR FURTHER INFORMATION CONTACT).

Authority

The authority for this action is the Endangered Species Act of 1973, as amended (16 U.S.C. 1531 et seq.).

Martha Williams,
Director, U.S. Fish and Wildlife Service.

[FR Doc. 2022-14336 Filed 7-6-22; 8:45 am]

BILLING CODE 4333-15-P